Proclamation 10018 of April 29, 2020

Law Day, U.S.A., 2020

By the President of the United States of America

A Proclamation

More than 230 years ago, the Founding Fathers of our Nation crafted a revolutionary and unique form of Government rooted in the rule of law. Today, we continue to enjoy liberty, justice, and equality under the law as set forth and preserved in our Constitution. On Law Day, we celebrate the distinctive framework of our system of Government, which secures individual liberties and protects against arbitrary exercise of government power so that all citizens have the right and the freedom to pursue their American Dream.

In arguing for the ratification of our Constitution, James Madison wisely recognized that in a government “administered by men over men, the great difficulty lies in this: you must first enable the government to control the governed; and in the next place oblige it to control itself.” The Framers understood the inherent dangers of consolidated government power and that, in order for our Republic to survive, the power to make, execute, and interpret laws could not be vested in one individual or one institution. They knew that “ambition must be made to counteract ambition,” and accordingly devised an arrangement whereby separate and coequal branches share the power of the Federal Government, each limiting and checking the prerogatives of the others. They also created a system of enumerated powers for the Federal Government, reserving all other powers to the States. In doing so, the Framers limited the powers of the Federal Government and preserved a place of prominence for State and local lawmaking, which they rightly believed to be more responsive to the unique needs of each community.

This year also marks both the 150th anniversary of the ratification of the 15th Amendment, which prohibited denial of the right to vote based on race, color, or previous condition of servitude, and the 100th anniversary of the ratification of the 19th Amendment, which prohibited denial of the right to vote based on sex. The women and men who fought to win a voice for people of color and women in the electoral process strengthened our Union and helped the country better fulfill the founding promise of our Nation—that the power to enact and enforce laws be truly derived “from the consent of the governed.” As we mark these milestones, we pay tribute to the courageous spirit of the trailblazers who made this achievement possible, and take inspiration from their righteous struggle as we continue working to root out and destroy injustice.

We know that our Republic can continue to shine as a beacon of liberty only if Americans diligently defend our Constitution and ensure that its limits are strongly enforced. My Administration has sought to simplify and streamline America's statutory and regulatory code, checking encroachments by government on individual liberty and unleashing the spirit of genius and innovation that has made America the freest and most prosperous country in the world. Furthermore, one of my top priorities as President has been to nominate and appoint judges who are faithful to the proper role of the judiciary—to interpret the law, not to make it. In all of these efforts, we aim to ensure that the Government can continue to perform its fundamental responsibility to the American people, articulated in the Preamble of the Constitution, to “secure the blessings of liberty to ourselves and our posterity.”

On this Law Day, I urge all Americans to honor our shared inheritance of respect for the principles of the rule of law, limited government, and individual liberty. Let us rededicate ourselves to remaining ever vigilant in defending our rights secured by the Constitution so that our experiment in self-government continues in perpetuity.

NOW, THEREFORE, I, DONALD J. TRUMP, President of the United States of America, in accordance with Public Law 87-20, as amended, do hereby proclaim May 1, 2020, as Law Day, U.S.A. I urge all Americans, including government officials, to observe this day by reflecting upon the importance of the rule of law in our Nation and displaying the flag of the United States in support of this national observance; and I especially urge the legal profession, the press, and the radio, television, and media industries to promote and to participate in the observance of this day.

IN WITNESS WHEREOF, I have hereunto set my hand this twenty-ninth day of April, in the year of our Lord two thousand twenty, and of the Independence of the United States of America the two hundred and forty-fourth.

[FR Doc. 2020-09644

Filed 5-1-20; 11:15 am]

Billing code 3295-F0-P